DEPARTMENT OF COMMERCE

National Oceanic and Atmospheric Administration

RIN 0648-XE510

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Thursday, April 7, 2016 at 9 a.m.

ADDRESSES: The meeting will be held at the Hilton Garden Inn, 100 Boardman Street, Boston, MA 02128; phone: (617) 567-6789; fax: (617) 461-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee plans to discuss the groundfish monitoring program and will discuss PDT analysis with respect to the groundfish monitoring program, to assess whether: CV requirements and methodologies are the most appropriate to verify area fished, catch and discards by species and gear type for the sector system, and; ASM provides the sector fishery, recognizing heterogeneity within the fleet (e.g., trip length, homeport, etc.), the maximum flexibility to meet ASM goals and objectives. They will also develop committee recommendations to the Council on the possible alternatives for a monitoring action. The committee also plans to discuss windowpane flounder management alternatives and will receive an update on the development of a Council staff white paper examining the windowpane flounder issue. They will also develop committee recommendations on next steps for the white paper. The committee will discuss the recreational management measures process and receive an update on the development of a Council staff white paper examining the recreational management measures process issue. They will also develop committee recommendations on next steps for the white paper. Other business will be discussed as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 16, 2016.
Tracey L. Thompson,
Acting Deputy Director, Office of Sustainable Fisheries, National Marine Fisheries Service.

[FR Doc. 2016-06280 Filed 3-18-16; 8:45 am]

BILLING CODE 3510-22-P